DEPARTMENT OF THE INTERIOR

Office of the Secretary

[DOI-2018-0003;DS62200000, DWSN00000.000000, DP.62206, 18XD4523WS]

Privacy Act of 1974; System of Records

AGENCY: Office of the Secretary, Interior.

ACTION: Notice of a modified system of records.

SUMMARY: Pursuant to the provisions of the Privacy Act of 1974, as amended, the Department of the Interior is issuing a public notice of its intent to modify the Department of the Interior Privacy Act system of records, DOI-12, Donations Program Files, to update section titles, add a purpose section, reorganize the sections of the system notice into the government-wide approved format, add new proposed routine uses, and update content in applicable sections of the notice. Updated sections include, system location, system manager, categories of individuals, categories of records, authorities, routine uses, storage, retrieval, retention and disposal, safeguards, notification procedures, and record access and contesting record procedures sections.

DATES: This modified system will be effective upon publication. New or modified routine uses will be effective August 13, 2018. Submit comments on or before August 13, 2018.

ADDRESSES: You may submit comments, identified by docket number DOI-2018-0003, by any of the following methods:

• Federal e-Rulemaking Portal: http://www.regulations.gov. Follow the instructions for submitting comments.

• Mail: Teri Barnett, Departmental Privacy Officer, U.S. Department of the Interior, 1849 C Street NW, Room 7112, Washington, DC 20240.

• Hand-delivering comments to Teri Barnett, Departmental Privacy Officer, U.S. Department of the Interior, 1849 C Street NW, Room 7112, Washington, DC 20240.

• Email: DOI_Privacy@ios.doi.gov.

All submissions received must include the agency name and docket number. All comments received will be posted without change to http://www.regulations.gov, including any personal information provided.

FOR FURTHER INFORMATION CONTACT: Paul Batlan, Financial Analyst, Conservation Partnerships, Office of Financial Management, U.S. Department of the Interior, 1849 C Street NW, Mail Stop 5530 MIB, Washington, DC 20240; email at Paul_Batlan@ios.doi.gov or by telephone at 202-208-4826.

SUPPLEMENTARY INFORMATION:

I. Background

The Department of the Interior (DOI) Office of Financial Management maintains the DOI-12, Donations Program Files, system of records. This system assists DOI in managing the Donations Program and facilitating the evaluation, acceptance, and solicitation of donations of money, real property, personal property, services, or other gifts by members of the public and organizations to the Department of the Interior and its officials.

DOI is publishing this revised notice to make administrative updates to the following sections: System location; system manager; authorities; categories of individuals; categories of records; storage; retrieval; retention and disposal; safeguards; and the procedures on record access, contesting record and notification. This revised notice is organized to reflect the government-wide format established by the Office of Management and Budget (OMB), which includes new sections on the purpose and history of the system of records. Additionally, DOI is proposing to modify routine use “A” to clarify authorized disclosures to the Department of Justice; modify routine use “J” and add new routine use “K” to permit sharing of information with appropriate Federal agencies or entities when reasonably necessary to assist in efforts to respond to a breach of personally identifiable information and to prevent, minimize, or remedy the risk of harm to individuals or the Federal Government in accordance with OMB policy; and modify routine use “N” to further clarify authorized disclosures to the news media and the public. DOI last published the Donations Program Files system of records notice in the Federal Register at 77 FR 66628 (November 6, 2012).

II. Privacy Act

The Privacy Act of 1974, as amended, embodies fair information practice principles in a statutory framework governing the means by which Federal agencies collect, maintain, use, and disseminate individuals' personal information. The Privacy Act applies to records about individuals that are maintained in a “system of records.” A “system of records” is a group of any records under the control of an agency for which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The revised Donations Program Files system of records notice is published in its entirety below. In accordance with 5 U.S.C. 552a(r), DOI has provided a report of this system of records to the Office of Management and Budget and to Congress.

III. Public Participation

You should be aware your entire comment including your personal identifying information, such as your address, phone number, email address, or any other personal identifying information in your comment, may be made publicly available at any time. While you may request to withhold your personal identifying information from public review, we cannot guarantee we will be able to do so.

Teri Barnett,
Departmental Privacy Officer.

SYSTEM NAME AND NUMBER

INTERIOR/DOI-12, Donations Program Files.

SECURITY CLASSIFICATION:

Unclassified.

SYSTEM LOCATION:

Records in this system are maintained by the Office of Financial Management, U.S. Department of the Interior, 1849 C Street NW, Mail Stop 5530 MIB, Washington, DC 20240; and Bureaus and Offices that manage Donations Programs.

SYSTEM MANAGER(S):

Director and Senior Manager for Donations, Office of Financial Management, U.S. Department of the Interior, 1849 C Street NW, Mail Stop 5530 MIB, Washington, DC 20240. A list of bureau and office level senior managers may be obtained by contacting the Office of Financial Management at 202-208-4826.

AUTHORITY FOR MAINTENANCE OF THE SYSTEM:

5 U.S.C. 301, Departmental Regulations; 43 U.S.C. 1737, Federal Land Policy and Management Act, Implementation provisions; 54 U.S.C. 101101, Authority to accept land, rights-of-way, buildings, other property, and money; 43 U.S.C. 36c, Acceptance of contributions from public and private sources; cooperation with other agencies in prosecution of projects; 16 U.S.C. 742f, Powers of Secretaries of the Interior and Commerce.

PURPOSE(S) OF THE SYSTEM:

The purpose of this system is to assist the Department of the Interior (DOI) in managing the Donations Program and facilitating the evaluation, acceptance, and solicitation of donations of money, real property, personal property, services, or other gifts by members of the public and organizations.

CATEGORIES OF INDIVIDUALS COVERED BY THE SYSTEM:

Individuals who donate money, real property, personal property, services, or other gifts to the DOI and its officials, prospective donors, and other individuals who contact or correspond with the DOI officials on matters related to the Donations Program. This system may also include information on current and former Federal government employees, contractors, and volunteers who support or are involved in the management of the Donations Program. This system contains records concerning corporations and other business entities, which are not subject to the Privacy Act. However, records pertaining to individuals acting on behalf of corporations and other business entities may reflect personal information that may be maintained in the Donations Program system of records.

CATEGORIES OF RECORDS IN THE SYSTEM:

This system contains information provided by individuals or organizations who propose to donate money, real property, personal property, services, or other gifts to the DOI or its officials, and may include names; home or work addresses; phone numbers; email addresses; other contact information; financial data such as the amount of the donation and method of remittance; biographical information; descriptions or other information regarding type of donations made; and miscellaneous information about gifts donated in the past. This system also contains background data and affiliations related to eligibility determinations for proposed donations; correspondence or other data related to the acceptance of proposed donations; and correspondence and data related to the management of the Donations Program.

RECORD SOURCE CATEGORIES:

Records in the system are obtained from individual members of the public, organizations, DOI officials, employees, contractors, volunteers, and may be obtained from other Federal officials, state, territorial and local government officials, and non-governmental organizations, in the course of daily business activities and communications related to the management of the Donations Program.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information maintained in this system may be disclosed to authorized entities outside DOI for purposes determined to be relevant and necessary as a routine use pursuant to 5 U.S.C. 552a(b)(3) as follows:

A. To the Department of Justice (DOJ), including Offices of the U.S. Attorneys, or other Federal agency conducting litigation, or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office in response to a written inquiry that an individual covered by the system, or the heir of such individual if the covered individual is deceased, has made to the office.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, or contractor (including employees of the contractor) of DOI that performs services requiring access to these records on DOI's behalf to carry out the purposes of the system.

J. To appropriate agencies, entities, and persons when:

(1) DOI suspects or has confirmed that there has been a breach of the system of

records;

(2) DOI has determined that as a result of the suspected or confirmed breach there is a risk of harm to individuals, DOI (including its information systems, programs, and operations), the Federal Government, or national security; and

(3) the disclosure made to such agencies, entities and persons is reasonably necessary to assist in connection with DOI's efforts to respond to the suspected or confirmed breach or to prevent, minimize, or remedy such harm.

K. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, when a matter has become public knowledge; when it is necessary to preserve the confidence in the integrity of DOI or is necessary to demonstrate the accountability of its officers, employees, or individuals covered in the system; or where there exists a legitimate public interest in the disclosure of the information, such as circumstances where providing information supports a legitimate law enforcement or public safety function, or protects the public from imminent threat of life or property; except to the extent it is determined that release of the specific information in the context of a particular case would constitute an unwarranted invasion of personal privacy.

O. To an official of another Federal, state, territorial, local, tribal, or foreign agency to provide information needed in the performance of official duties related to the verification, authorization, or processing of money, real property, personal property, services, or other gift donations by individuals or organizations, or any issue otherwise related to the purpose for which the records were compiled.

POLICIES AND PRACTICES FOR STORAGE OF RECORDS:

Records are maintained in both paper and electronic form. Paper records are maintained in file folders stored in file cabinets. Electronic records are maintained as files in computers, computer databases, email, and on encrypted removable drives and agency servers.

POLICIES AND PRACTICES FOR RETRIEVAL OF RECORDS:

Information within this system may be retrieved by the DOI office or bureau receiving the donation, the benefitting program or activity, nature of the gift, size of the donation, the identity of the donor by individual or organization name, and may also be retrieved by keyword search.

POLICIES AND PRACTICES FOR RETENTION AND DISPOSAL OF RECORDS:

Records are maintained under Departmental Records Schedule (DRS)-3.1.0001, Program Monitoring and Policy Development (DAA-0048-2013-0008-0001), which has been approved by the National Archives and Records Administration (NARA). DRS-3.1.0001 is a Department-wide records schedule that covers records involved in the regular monitoring and oversight of Federal programs. The disposition for these records is temporary. These records will be destroyed five years after cut-off, which is at the end of the fiscal year in which the final document is superseded or obsolete, or upon determination that a final document will not be produced. Records not used to support the program are cut off at the end of the fiscal year when the document was created as these records support the creation of permanent policy records that are not authorized for destruction and must be transferred to the National Archives in accordance with other records retention schedules. Paper records are disposed of by shredding or pulping, and records contained on electronic media are degaussed or erased in accordance with 384 Departmental Manual 1 and NARA guidelines.

ADMINISTRATIVE, TECHNICAL, AND PHYSICAL SAFEGUARDS:

The records contained in this system are safeguarded in accordance with 43 CFR 2.226 and other applicable security and privacy rules and policies. During normal hours of operation, paper records are maintained in locked file cabinets under the control of authorized personnel. Electronic records are safeguarded by permissions set to “Authenticated Users” which require password login. Computer servers on which electronic records are stored are located in secured DOI controlled facilities with physical, technical and administrative levels of security to prevent unauthorized access to the DOI network and information assets. The computer servers in which electronic records are stored are located in DOI facilities that are secured by security guards, alarm systems and off-master key access. Access to servers containing records in this system is limited to DOI personnel and other authorized parties who have a need to know the information for the performance of their official duties. Data exchanged between the servers and the system is encrypted. Backup tapes are encrypted and stored in a locked and controlled room in a secure, off-site location.

Computerized records systems follow the National Institute of Standards and Technology privacy and security standards as developed to comply with the Privacy Act of 1974, 5 U.S.C. 552a; Paperwork Reduction Act of 1995, 44 U.S.C. 3501-3521; Federal Information Security Modernization Act of 2014, 44 U.S.C. 3551-3558; and the Federal Information Processing Standards 199: Standards for Security Categorization of Federal Information and Information Systems. Security controls include user identification, passwords, database permissions, encryption, firewalls, audit logs, and network system security monitoring, and software controls. Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior.

RECORD ACCESS PROCEDURES:

An individual requesting records on himself or herself should send a signed, written inquiry to the applicable System Manager identified above. The request must include the specific bureau or office that maintains the record to facilitate location of the applicable records. The request envelope and letter should both be clearly marked “PRIVACY ACT REQUEST FOR ACCESS.” A request for access must meet the requirements of 43 CFR 2.238.

CONTESTING RECORD PROCEDURES:

An individual requesting corrections or the removal of material from his or her records should send a signed, written request to the applicable System Manager as identified above. The request must include the specific bureau or office that maintains the record to facilitate location of the applicable records. A request for corrections or removal must meet the requirements of 43 CFR 2.246.

NOTIFICATION PROCEDURES:

An individual requesting notification of the existence of records on himself or herself should send a signed, written inquiry to the applicable System Manager as identified above. The request must include the specific bureau or office that maintains the record to facilitate location of the applicable records. The request envelope and letter should both be clearly marked “PRIVACY ACT INQUIRY.” A request for notification must meet the requirements of 43 CFR 2.235.

EXEMPTIONS PROMULGATED FOR THE SYSTEM:

None.

HISTORY:

77 FR 66628 (November 6, 2012).

[FR Doc. 2018-15010 Filed 7-12-18; 8:45 am]

BILLING CODE 4334-63-P